DEPARTMENT OF ENERGY

Environmental Management Site-Specific Advisory Board Chairs

AGENCY: Office of Environmental Management, Department of Energy.

ACTION: Notice of open meeting: Correction.

SUMMARY: On April 11, 2022, the Department of Energy published a notice of open meeting announcing a meeting on May 3-4, 2022 of the Environmental Management Site-Specific Advisory Board Chairs (87 FR 21108). This document makes a correction to that notice.

FOR FURTHER INFORMATION CONTACT: Alyssa Harris, EM SSAB Federal Coordinator. U.S. Department of Energy, 1000 Independence Avenue SW, Washington, DC 20585. Email: Alyssa.Harris@em.doe.gov. Telephone: (202) 586-7627.

Corrections

In the Federal Register of April 11, 2022, in FR Doc. 2022-07564, on page 21108, please make the following correction:

In that notice under ADDRESSES, second column, third paragraph, the meeting address has been changed. The original address was The Carson Center—Myre River Room, 100 Kentucky Avenue, Paducah, KY 42003. The new address is Holiday Inn Paducah Riverfront—River Room, 600 North 4th Street, Paducah, KY 42001. The meeting will still be held in a hybrid format.

Signed in Washington, DC, on April 19, 2022.
LaTanya Butler,
Deputy Committee Management Officer.

[FR Doc. 2022-08699 Filed 4-22-22; 8:45 am]

BILLING CODE 6450-01-P